DEPARTMENT OF ENERGY

Federal Energy Regulatory Commission

[Project No. 14329-000]

Grand Coulee Project Hydroelectric Authority; Notice of Preliminary Permit Application Accepted for Filing and Soliciting Comments, Motions To Intervene, and Competing Applications

On December 1, 2011, the Grand Coulee Project Hydroelectric Authority filed an application for a preliminary permit, pursuant to section 4(f) of the Federal Power Act (FPA), proposing to study the feasibility of the Banks Lake Pumped Storage Project (Banks Lake Project or project) to be located on Banks Lake and Franklin D. Roosevelt Lake (Roosevelt Lake), near the town of Grand Coulee, Douglas and Grant Counties, Washington. The project would be located on federal lands administered by the U.S. Bureau of Reclamation (Reclamation) and the U.S. Bureau of Land Management (BLM). The sole purpose of a preliminary permit, if issued, is to grant the permit holder priority to file a license application during the permit term. A preliminary permit does not authorize the permit holder to perform any land-disturbing activities or otherwise enter upon lands or waters owned by others without the owners' express permission.

The proposed project has two alternatives:

Alternative 1

The proposed project would use Reclamation's existing Banks Lake as the upper reservoir and Roosevelt Lake as the lower reservoir. The proposed project would consist of the following new facilities: (1) An upper reservoir inlet/outlet structure equipped with trash racks; (2) a 1.5-mile-long penstock consisting of a vertical shaft, power tunnel segments, and a tailrace section, extending between the upper reservoir inlet/outlet and the reversible turbine/generator units in the powerhouse; (3) an underground powerhouse containing four reversible turbine/generator units rated for 250 megawatts (MW) each, for a total installed generation of 1,000 MW, or a powerhouse located on the shore of Roosevelt Lake, also containing four 250-MW reversible turbine/generator units; (4) a 2-mile-long, 500-kilovolt (kV) transmission line extending from the project powerhouse to an existing 500-kV substation; and (5) appurtenant facilities. The estimated annual generation of Alternative 1 for the Banks Lake Project would be 2,263 gigawatt-hours (GWh).

Alternative 2

The proposed project would use Reclamation's existing Banks Lake as the lower reservoir. The proposed project would consist of the following new facilities: (1) A new 312-acre upper reservoir constructed approximately 3,000 feet west of the existing Banks Lake, impounded by three earth and rockfill embankments, each with a crest elevation of 2,300 feet above mean sea level; (2) an upper reservoir inlet/outlet structure equipped with trash racks; (3) a 620-foot-long, 43-foot-diameter vertical shaft connecting the upper reservoir inlet/outlet structure to the power tunnels; (4) four 1,700-foot-long, 17-foot-diameter power tunnels leading from the vertical shaft to the powerhouse; (5) an underground powerhouse containing four reversible turbine/generator units rated for 260 MW each, for a total installed generation of 1,040 MW; (6) a 25-foot-diameter tailrace tunnel between the powerhouse and the existing Banks Lake; (7) a 2.4-mile-long, 500-kV transmission line extending from the project powerhouse to a new 500-kV substation; and (8) appurtenant facilities. The estimated annual generation of Alternative 2 for the Banks Lake Project would be 2,978 GWh.

Applicant Contact: Mr. Ronald K. Rodewald, Secretary-Manager, Grand Coulee Project Hydroelectric Authority, P.O. Box 219, Ephrata, WA 98823; phone: (509) 754-2227.

FERC Contact: Jennifer Harper; phone: (202) 502-6136.

Deadline for filing comments, motions to intervene, competing applications (without notices of intent), or notices of intent to file competing applications: 60 days from the issuance of this notice. Competing applications and notices of intent must meet the requirements of 18 CFR 4.36. Comments, motions to intervene, notices of intent, and competing applications may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov or toll free at 1-866-208-3676, or for TTY, (202) 502-8659. Although the Commission strongly encourages electronic filing, documents may also be paper-filed. To paper-file, mail an original and seven copies to: Kimberly D. Bose, Secretary, Federal Energy Regulatory Commission, 888 First Street NE., Washington, DC 20426.

More information about this project, including a copy of the application, can be viewed or printed on the “eLibrary” link of Commission's Web site at http://www.ferc.gov/docs-filing/elibrary.asp. Enter the docket number (P-14329) in the docket number field to access the document. For assistance, contact FERC Online Support.

Dated: April 11, 2012.
Kimberly D. Bose,
Secretary.

[FR Doc. 2012-9273 Filed 4-17-12; 8:45 am]

BILLING CODE 6717-01-P